LEGAL SERVICES CORPORATION

Notice of Proposed Revisions to the Compliance Supplement for Audits of LSC Recipients for Fiscal Years Ending 12/31/15 and Thereafter

AGENCY: Legal Services Corporation.

ACTION: Notice of proposed changes and request for comments; extension of comment period.

SUMMARY: The Legal Services Corporation Office of Inspector General (“LSC OIG”) issued a notice requesting comments on proposed changes to the Compliance Supplement for Audits of LSC Recipients in the Federal Register of December 4, 2015 [FR Doc. 2015-30643]. LSC OIG requested comments within 30 days of the date of publication, or by January 4, 2016. This notice extends the comment period to January 15, 2016.

DATES: Comments must be submitted by January 15, 2016.

ADDRESSES: You may submit comments by any of the following methods:

• Email: aramirez@oig.lsc.gov.

• Fax: (202) 337-6616.

• Mail: Legal Services Corporation Office of Inspector General, 3333 K Street NW., Washington, DC 20007.

Instructions: All comments should be addressed to Anthony M. Ramirez, Office of the Inspector General, Legal Services Corporation. Include “2015 Compliance Supplement” as the heading or subject line for all comments submitted.

FOR FURTHER INFORMATION CONTACT: Anthony M. Ramirez, aramirez@oig.lsc.gov, (202) 295-1668.

SUPPLEMENTARY INFORMATION: LSC OIG is extending the public comment period stated in the Federal Register notice for this request for comments. 80 FR 75847, Dec. 4, 2015. In that notice, LSC OIG requested comments on proposed changes to the Compliance Supplement for Audits of LSC Recipients. LSC OIG has received a request for an extension of the comment period to allow interested parties and stakeholders additional time to develop their comments on the proposed changes. LSC OIG is therefore extending the comment period for 11 days, from January 4, 2016, to January 15, 2016.

Dated: December 21, 2015.
Stefanie K. Davis,
Assistant General Counsel.

[FR Doc. 2015-32433 Filed 12-23-15; 8:45 am]

BILLING CODE 7050-01-P